NUCLEAR REGULATORY COMMISSION

[Docket No. 70-7004]

USEC Inc.'s Proposed American Centrifuge Plant; Notice of Availability of Final Environmental Impact Statement

AGENCY: Nuclear Regulatory Commission.

ACTION: Notice of availability of Final Environmental Impact Statement.

SUMMARY: Notice is hereby given that the U.S. Nuclear Regulatory Commission (NRC) is issuing a Final Environmental Impact Statement (FEIS) for the USEC Inc. (USEC) license application, dated August 23, 2004, for the possession and use of source, byproduct and special nuclear materials at its proposed American Centrifuge Plant (ACP) located near Piketon, Ohio.

The scope of activities conducted under the license would include the construction, operation, and decommissioning of the ACP. Specifically, USEC proposes to use gas centrifuge technology to enrich the uranium-235 isotope found in natural uranium up to 10-weight percent. The enriched uranium would be used to manufacture nuclear fuel for commercial nuclear power reactors.

The FEIS is being issued as part of NRC's decision-making process on whether to issue a license to USEC, pursuant to Title 10 of the U.S. Code of Federal Regulations parts 30, 40, and 70. Based on the evaluation in the FEIS, NRC environmental review staff have concluded that the proposed action will generally have small effects on the environment, though a few resource areas may experience moderate impacts. The FEIS reflects the final analysis of environmental impacts of USEC's proposal and it's alternatives including the consideration of public comments received by NRC.

ADDRESSES: The FEIS may be accessed on the Internet at: http://www.nrc.gov/reading-rm/doc-collections/nuregs/staff/ by selecting “NUREG-1834.” Additionally, NRC maintains an Agencywide Documents Access and Management System (ADAMS), which provides text and image files of NRC's public documents. The FEIS and its appendices may also be accessed through NRC's Public Electronic Reading Room on the Internet at http://www.nrc.gov/reading-rm/adams.html. If you do not have access to ADAMS or if there are problems in accessing the documents located in ADAMS, contact NRC Public Document Room (PDR) Reference staff at 1-800-397-4209, 301-415-4737 or by e-mail to PDR@nrc.gov.

The FEIS is also available for inspection at the Commission's Public Document Room, U.S. NRC's Headquarters Building, 11555 Rockville Pike (first floor), Rockville, Maryland. Upon written request and to the extent supplies are available, a single copy of the FEIS can be obtained for a fee by writing to the Office of Information Services, Reproduction and Distribution Services Branch, U.S. Nuclear Regulatory Commission, Washington, DC 20555-0001; by electronic mail at DISTRIBUTION@nrc.gov; or by fax at (301) 415-2289.

A selected group of documents associated with the USEC facility may also be obtained from the Internet on NRC's USEC Web page: http://www.nrc.gov/materials/fuel-cycle-fac/usecfacility.html. In addition, all comments of Federal, State and local agencies, Indian tribes or other interested persons will be made available for public inspection when received.

FOR FURTHER INFORMATION CONTACT: For questions related to the safety review or overall licensing of the USEC facility, please contact Mr. Francis S. Echols at (301) 415-6981. For environmental review questions, please contact Mr. Matthew Blevins at (301) 415-7684.

SUPPLEMENTARY INFORMATION: This FEIS was prepared in response to an application submitted by USEC dated August 23, 2004, for the possession and use of source, byproduct and special nuclear materials at its proposed ACP located near Piketon, Ohio. The FEIS for the proposed ACP was prepared by NRC staff and its contractor, ICF Consulting, Inc., in compliance with the National Environmental Policy Act (NEPA) and NRC's regulations for implementing NEPA (10 CFR part 51).

The FEIS is being issued as part of NRC's decision-making process on whether to issue a license to USEC, pursuant to 10 CFR parts 30, 40, and 70. The scope of activities conducted under the license would include the construction, operation, and decommissioning of the ACP. Specifically, USEC proposes to use gas centrifuge technology to enrich the uranium-235 isotope found in natural uranium up to 10-weight percent. The enriched uranium would be used to manufacture nuclear fuel for commercial nuclear power reactors. USEC proposes to locate the ACP in leased portions of the U.S. Department of Energy (DOE) reservation in Piketon, OH. This is the same site as DOE's Portsmouth Gaseous Diffusion Plant. The ACP would consist of refurbished existing facilities and newly constructed facilities, primarily located in the southwestern portion of the central DOE reservation.

NRC staff published a Notice of Intent to prepare an EIS for the proposed ACP and to conduct a scoping process, in the Federal Register on October 15, 2004 (69 FR 61268). NRC staff accepted comments through February 1, 2005, and subsequently issued a Scoping Summary Report in April 2005 (ADAMS Accession Number: ML050820008). On September 9, 2005, NRC announced a public meeting to solicit comments on the draft EIS. The public meeting was held on September 29, 2005, in Piketon, Ohio. NRC accepted public comments through October 24, 2005. The FEIS provides summaries of public comments on the draft EIS and responses. The FEIS describes the proposed action and alternatives to the proposed action, including the no-action alternative. NRC staff assesses the impacts of the proposed action and its alternatives on public and occupational health, air quality, water resources, waste management, geology and soils, noise, ecology resources, land use, transportation, historical and cultural resources, visual and scenic resources, socioeconomics, accidents and environmental justice. Additionally, the FEIS analyzes and compares the costs and benefits of the proposed action.

Based on the evaluation in the FEIS, NRC environmental review staff has concluded that the proposed action would have small effects on the physical environment and human communities with the exception of: (1) Short-term moderate impacts associated with increases in particulate matter released to the air during the construction phase; (2) short-term moderate impacts related to increased traffic congestion during the construction phase; (3) potential moderate impacts due to transportation accidents; (4) potential moderate impacts from facility operation accidents; (5) moderate impacts associated with a potential operating extension of the DOE depleted uranium tails conversion facility; and (6) moderate employment impacts on the local communities associated with the construction and operation phases.

After weighing the impacts, costs, and benefits of the proposed action and comparing alternatives, NRC staff, in accordance with 10 CFR part 51.91(d), set forth their final recommendation regarding the proposed action. NRC staff recommend that, unless safety issues mandate otherwise, the action called for is the approval of the proposed action (i.e., issue a license).

NRC staff in the Division of Fuel Cycle Safety and Safeguards are currently completing the safety review for USEC's license application and is currently scheduled for completion in June 2006.

Dated at Rockville, Maryland, this 9th day of May 2006.
For the Nuclear Regulatory Commission.
Scott C. Flanders,
Deputy Director, Environmental and Performance Assessment Directorate, Division of Waste Management and Environmental Protection, Office of Nuclear Material Safety and Safeguards.

[FR Doc. E6-7364 Filed 5-12-06; 8:45 am]

BILLING CODE 7590-01-P